ENVIRONMENTAL PROTECTION AGENCY

[FRL-7419-4]

Agency Information Collection Activities: Proposed Collection; Comment Request; Notice of Intent for Storm Water Discharges Associated With Construction Activity

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Notice of Intent for Storm Water Discharges Associated With Construction Activity, EPA ICR Number 1842.04, OMB Control Number 2040-0188, that expires on March 31, 2003). Before submitting the ICR to OMB for review and approval, EPA is soliciting comments on specific aspects of the proposed information collection as described below.

DATES: Comments must be submitted on or before February 4, 2003.

ADDRESSES: Please send comments on the proposed ICR to Jack Faulk, USEPA, Office of Wastewater Management, Water Permits Division, 1200 Pennsylvania Avenue, NW, EPA East, Room 7329E, Mail Code 4203M, Washington, DC 20460.

FOR FURTHER INFORMATION CONTACT: Please direct questions or a request for a copy of the ICR to: Jack Faulk, Industrial Branch, Water Permits Division, Office of Wastewater Management; tel.: (202) 564-0768, fax: (202) 564-6431; or e-mail: faulk.jack@epa.gov.

SUPPLEMENTARY INFORMATION: Affected entities: Entities potentially affected by this action are those which have storm water discharges associated with large construction activity (40 CFR 122.26(b)(14)(x)) to waters of the U.S.

Title: Notice of Intent for Storm Water Discharges Associated With Construction Activity, EPA ICR Number 1842.04, OMB Control Number 2040-0188, that expires on March 31, 2003.

Abstract: This ICR calculates the burden and costs associated with the preparation of the Notice of Intent (NOI) for Storm Water Discharges Asssociated with Construction Activity under an NPDES General Permit, and the Storm Water Pollution Prevention Plan (SWPPP). EPA uses the data contained in the NOIs to track facilities covered by the storm water general permit and assess permit compliance. EPA has developed a format for construction NOIs. The standard one page form is called: Notice of Intent (NOI) for Storm Water Discharges Associated with Construction Activity Under a NPDES General Permit (EPA Form Number 3510-6). The construction NOI form requires the following information to be submitted and signed and certified to by an authorized representative of the project:

—Name, address, phone number of the facility.

—Status of the owner/operator (whether federal, state, public, or private).

—Name and location of the project (City, State, ZIP, Latitude, Longitude, County).

—Whether the facility is located on Indian Country Lands.

—Whether a Storm Water Pollution Prevention Plan (SWPPP) has been prepared.

—Optional: location for viewing SWPPP and telephone number for scheduling viewing times: Address, City, State, ZIP.

—The name of the receiving water.

—Estimated construction start date and completion date.

—The estimated area to be disturbed (to nearest acre).

—An estimate of the likelihood of a discharge.

—Whether any protected species or critical habitat in the project area.

—Which section of part I.B.3.e.(2) of the permit through which permit eligibility with regard to protection of endangered species is satisfied.

Respondents are required to obtain coverage under the NPDES General Permit for storm water discharges associated with construction activity.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 38.5 hours per response by large construction NPDES permittees. EPA estimates that annually 201,213 large construction projects will perform activities covered by this ICR. These NPDES permittees are expected to provide 201,213 responses to State and Federal permit authorities annually. Additionally, 45 states/territories will perform information collection activities. Nationally, NPDES permittees will spend 7,738,888 hours per year on information collection activities as a result of the Storm Water Construction General Permit NOI and SWPPP requirements. The 45 states/territories are expected to spend 186,323 hours per year on information collection activities. Capital and start-up costs associated with the large construction NOI and SWPPP are expected to be negligible. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: November 8, 2002.
James A. Hanlon,
Director, Office of Wastewater Management.

[FR Doc. 02-30943 Filed 12-5-02; 8:45 am]

BILLING CODE 6560-50-P